DEPARTMENT OF COMMERCE

Submission For OMB Review; Comment Request

DOC will submit to the Office of Management and Budget (OMB) for clearance the following proposal for collection of information under the provisions of the Paperwork Reduction Act (44 U.S.C. chapter 35).

Agency: U.S. Census Bureau.

Title: 2007 Economic Census Covering the Construction Sector.

Form Number(s): CC-23601, CC-23701, CC-23702, CC-23801, CC-23802, CC-23803, and CC-23804.

Agency Approval Number: None.

Type of Request: New collection.

Burden: 299,000 hours.

Number of Respondents: 130,000.

Avg Hours Per Response: 2.3 hours.

Needs and Uses: The 2007 Economic Census Covering the Construction Sector will use a mail canvass, supplemented by data from Federal administrative records, to measure the economic activity of more than three million establishments classified in the North American Industry Classification System (NAICS).

The construction sector comprises establishments primarily engaged in the construction of buildings and other structures, additions, alterations, reconstruction, installation, and maintenance and repairs. The economic census will produce basic statistics by industry for number of establishments, value of construction work, payroll, employment, selected costs, depreciable assets, and capital expenditures. It also will yield a variety of subject statistics, including estimates of type of construction work done, kind of business activity, and other industry-specific measures. Industry statistics will be summarized for the United States and states.

The economic census is the primary source of facts about the structure and functioning of the Nation's economy and features unique industry and geographic detail. Economic census statistics serve as part of the framework for the national accounts and provides essential information for government, business, and the general public. The Economic Census covering the Construction Sector collects information from contractors of all types of construction. Among the important statistics produced by the construction sector are estimates of the value of construction work during the covered year. The Federal government uses the information from the economic census as an important part of the framework for the national accounts, input-output measures, key economic indexes, and other estimates that serve as the factual basis for economic policy-making, planning, and program administration. State and local governments rely on the economic census as a unique source of comprehensive economic statistics for small geographical areas for use in policy-making, planning, and program administration. Finally, industry, business, and the general public use data from the economic census for economic forecasts, market research, benchmarks for their own sample-based surveys, and business and financial decision making.

If the economic census was not conducted, the Federal government would lose vital source data and benchmarks for the national accounts, the input-output tables, and other composite measures of economic activity. Further, the government would lose critical benchmarks for current, sample-based economic surveys and an essential source of detailed, comprehensive economic information for use in policy-making and program administration.

Affected Public: Business or other for-profit.

Frequency: One time.

Respondent's Obligation: Mandatory.

Legal Authority: Title 13 U.S.C., Sections 131 and 224.

OMB Desk Officer: Brian Harris-Kojetin, (202) 395-7314.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: September 28, 2006.
Madeleine Clayton,
Management Analyst, Office of the Chief Information Officer.

[FR Doc. E6-16326 Filed 10-3-06; 8:45 am]

BILLING CODE 3510-07-P